DEPARTMENT OF COMMERCE

Foreign-Trade Zones Board

[B-34-2021]

Foreign-Trade Zone (FTZ) 33—Pittsburgh, Pennsylvania; Notification of Proposed Production Activity; Swagelok Company (Finished Bar Stock), Koppel, Pennsylvania

Swagelok Company (Swagelok) submitted a notification of proposed production activity to the FTZ Board for its facility in Koppel, Pennsylvania. The notification conforming to the requirements of the regulations of the FTZ Board (15 CFR 400.22) was received on April 22, 2021.

The Swagelok facility is located within Subzone 33F. The facility is used for production of finished bar stock from unprocessed bar stock, including annealing, drawing, and cutting-to-size. Pursuant to 15 CFR 400.14(b), FTZ activity would be limited to the specific foreign-status materials/components and specific finished products described in the submitted notification (as described below) and subsequently authorized by the FTZ Board.

Production under FTZ procedures could exempt Swagelok from customs duty payments on the foreign-status materials/components used in export production. On its domestic sales, for the foreign-status materials/components noted below, Swagelok would be able to choose the duty rates during customs entry procedures that apply to: Forged non alloy steel bar; bars and rods of iron or non alloy steel; carbon steel bar stock, forged rods, and cold finished steel bar; circular hot rolled stainless steel; hot formed or extruded hot rolled stainless steel; cold formed stainless steel bar; stainless steel bar stock, circular bars or rods; circular or hex brass bar stock; square copper alloy bar stock; nickel alloy bar stock; and, aluminum bar stock more than 10 mm in diameter (duty rate ranges from duty-free to 5.0%). Swagelok would be able to avoid duty on foreign-status components which become scrap/waste. Customs duties also could possibly be deferred or reduced on foreign-status production equipment.

The materials/components sourced from abroad include: Unfinished forged non alloy steel bar; unfinished bars and rods of iron or non alloy steel; unfinished carbon steel bar stock, forged rods, and cold finished steel bar; unfinished circular hot rolled stainless steel; unfinished hot formed or extruded hot rolled stainless steel; unfinished cold formed stainless steel bar; unfinished stainless steel bar stock, circular bars or rods; unfinished circular or hex brass bar stock; unfinished square copper alloy bar stock; unfinished nickel alloy bar stock; and, unfinished aluminum bar stock more than 10 mm in diameter (duty rate ranges from duty-free to 5.0%). The request indicates that some components may be subject to an antidumping/countervailing duty (AD/CVD) order if imported from certain countries. The FTZ Board's regulations (15 CFR 400.14(e)) require that merchandise subject to AD/CVD orders, or items which would be otherwise subject to suspension of liquidation under AD/CVD procedures if they entered U.S. customs territory, be admitted to the zone in privileged foreign (PF) status (19 CFR 146.41). The request also indicates that certain materials/components are subject to duties under Section 232 of the Trade Expansion Act of 1962 (Section 232) or Section 301 of the Trade Act of 1974 (Section 301), depending on the country of origin. The applicable Section 232 and Section 301 decisions require subject merchandise to be admitted to FTZs in PF status.

Public comment is invited from interested parties. Submissions shall be addressed to the Board's Executive Secretary and sent to: ftz@trade.gov. The closing period for their receipt is June 14, 2021.

A copy of the notification will be available for public inspection in the “Reading Room” section of the Board's website, which is accessible via www.trade.gov/ftz.

For further information, contact Juanita Chen at juanita.chen@trade.gov or 202-482-1378.

Dated: April 27, 2021.
Andrew McGilvray,
Executive Secretary.

[FR Doc. 2021-09229 Filed 4-30-21; 8:45 am]

BILLING CODE 3510-DS-P